DEPARTMENT OF LABOR

Employment and Training Administration

[TA-W-63,422]

Springs Global U.S., Inc., Springs Direct Division, Springmaid Wamsutta Factory Store, Lancaster, SC; Notice of Revised Determination on Remand

On February 6, 2009, the U.S. Court of International Trade (USCIT) remanded to the U.S. Department of Labor (Department) for further review Former Employees of Springs Global, Inc., Springs Global Direct Division, Springmaid-Wamsutta Factory Store, Lancaster, South Carolina (FEO Springs Global) v. United States, Court No. 08-00255.

On May 19, 2008, an official of Springs Global U.S. Inc. (subject firm) filed a petition for Trade Adjustment Assistance (TAA) and Alternative Trade Adjustment Assistance (ATAA) on behalf of workers of Springs Global U.S. Inc., Springs Global Direct Division, Springmaid-Wamsutta Factory Store, Lancaster, South Carolina (subject facility).

The subject facility closed during February 2008. Prior to the closure, workers at the subject facility managed Springs Global, U.S., Inc. (subject firm) retail operations, sold linen products manufactured by the subject firm to the public and other subject firm employees, and handled special orders for linen products placed by other subject firm employees.

The negative determination, issued on May 30, 2008, stated that in order to be considered eligible to apply for adjustment assistance under Section 223 of the Trade Act of 1974, the subject worker group must work for a “firm” or appropriate subdivision that produces an article domestically and there must be a relationship between the workers' work and the article produced by the workers' firm or appropriate subdivision. The determination also stated that although the subject firm produced an article, the subject workers did not support that production. The Department determined that the subject worker group cannot be considered import impacted or affected by a shift in production of an article. The Department's Notice of determination was published in the Federal Register on June 16, 2008 (73 FR 34044).

The Department did not receive a request for administrative reconsideration.

In the complaint, Plaintiffs allege that workers at the subject facility, who “provided the means by which Springs Global dispensed of manufactured goods that were not able to be sold otherwise * * * thereby enabling the company's production operations * * * to reduce their per-unit overhead and operate more efficiently,” should be treated like the workers covered by TA-W-62,768 (Springs Global U.S., Inc., Springs Direct Division, Corporate Support Group, Lancaster, South Carolina; certified February 14, 2008). Workers covered by TA-W-63,422 are located in the same building as workers covered by TA-W-62,786.

Workers covered by TA-W-62,786 are engaged in production estimation, production scheduling, distribution, logistics, and operational services. The determination for TA-W-62,786 stated that the workers supported production at a TAA-certified facility (Springs Global U.S., Inc., Grace Complex, Bedding Division, Lancaster, South Carolina; TA-W-61,258) and that the worker separations are “related to a shift of production and increased imports of textile products.”

The group eligibility requirements for directly-impacted workers under Section 222(a) the Trade Act of 1974, as amended, based on a shift of production are satisfied if the criteria set forth under Section 222(a)(2)(B) have been met:

A. a significant number or proportion of the workers in such workers' firm, or an appropriate subdivision of the firm, have become totally or partially separated, or are threatened to become totally or partially separated; and

B. there has been a shift in production by such workers' firm or subdivision to a foreign country of articles like or directly competitive with articles which are produced by such firm or subdivision, and one of the following must be satisfied:

1. the country to which the workers' firm has shifted production of the articles is a party to a free trade agreement with the United States;

2. the country to which the workers' firm has shifted production of the articles is a beneficiary country under the Andean Trade Preference Act, African Growth and Opportunity Act, or the Caribbean Basin Economic Recovery Act; or there has been or is likely to be an increase in imports of articles that are like or directly competitive with articles which are or were produced by such firm or subdivision.

On remand, the Department carefully reviewed the language of the statute, the Department's policy, Plaintiffs' submissions, and the administrative record.

The intent of the Department is for a certification to cover all workers of the subject firm or appropriate subdivision who were adversely affected by increased imports of the article produced by the firm or a shift in production of the article, based on the investigation of the TAA/ATAA petition.

After careful review on remand, the Department determines that a significant number or proportion of the workers in the appropriate subdivision of the subject firm was separated. Further, the Department determines that these workers performed activities related to the firm's production of an article, that the firm shifted production of that article to a foreign country (and there were increased imports of like or directly competitive articles produced by the firm), and this shift in production was a factor in Plaintiffs' separations.

Based on the above, the Department determines that the group eligibility requirements under Section 222(a)(2)(B) of the Trade Act of 1974, as amended, has been met.

In accordance with Section 246 of the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the facts during the remand investigation, I determine that there was a shift of production from the workers' firm or subdivision to Brazil of articles that are like or directly competitive with those produced by the subject firm or subdivision, and there has been or is likely to be an increase in imports of like or directly competitive articles. In accordance with the provisions of the Act, I make the following certification:

All workers of Springs Global U.S. Inc., Springs Global Direct Division, Springmaid-Wamsutta Factory Store, Lancaster, South Carolina, who became totally or partially separated from employment on or after May 19, 2007, through two years from the issuance of this revised determination, are eligible to apply for Trade Adjustment Assistance under Section 223 of the Trade Act of 1974, and are eligible to apply for alternative trade adjustment assistance under Section 246 of the Trade Act of 1974.

Signed at Washington, DC this 23rd day of February 2009.
Elliott S. Kushner,
Certifying Officer, Division of Trade Adjustment Assistance.

[FR Doc. E9-5040 Filed 3-9-09; 8:45 am]

BILLING CODE 4510-FN-P